FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice.

Neither agency intends to take any action with respect to these proposed acquisitions during the applicable waiting period.

Early Terminations
[Granted March 1, 2017 through March 31, 2017]
03/01/2017
20170703 | G | Bob Evans Farms, Inc.; Pineland Farms Potato Company, Inc.; Bob Evans Farms, Inc.
20170736 | G | JANA Offshore Partners, Ltd.; Tiffany & Co.; JANA Offshore Partners, Ltd.
20170737 | G | JANA Nirvana Offshore Fund, Ltd.; Tiffany & Co.; JANA Nirvana Offshore Fund, Ltd.
20170755 | G | Land O' Lakes, Inc; Southern States Cooperative, Incorporated; Land O' Lakes, Inc.
03/02/2017
20170756 | G | Marcato International Ltd.; Deckers Outdoor Corporation; Marcato International Ltd.
20170763 | G | Sonoco Products Company; Odyssey Investment Partners Fund IV, L.P.; Sonoco Products Company.
20170766 | G | Genstar Capital Partners VII, L.P.; Parthenon Investors IV, L.P.; Genstar Capital Partners VII, L.P.
03/03/2017
20170710 | G | Silver Lake Partners IV, L.P.; Social Finance, Inc.; Silver Lake Partners IV, L.P.
20170721 | G | Johnson & Johnson; R&D NewCo; Johnson & Johnson.
20170746 | G | Stonepeak Infrastructure Fund II LP; Communications Realty Investments, LLC; Stonepeak Infrastructure Fund II LP.
20170747 | G | Stonepeak Infrastructure Fund II LP; Cologix Holdings, Inc.; Stonepeak Infrastructure Fund II LP.
20170765 | G | AB Electrolux; Anova Industries, Inc.; AB Electrolux.
20170768 | G | Flex Ltd.; TCFI AGM LLC; Flex Ltd.
20170771 | G | Birch Hill Equity Partners (US) V, LP; Audax Private Equity Fund III, L.P.; Birch Hill Equity Partners (US) V, LP.
20170778 | G | Dr. Patrick Soon-Shiong; Altor BioScience Corporation; Dr. Patrick Soon-Shiong.
20170779 | G | Beijing Teamsun Technology Co., Ltd.; Grid Dynamics International, Inc.; Beijing Teamsun Technology Co., Ltd.
20170783 | G | EQT Mid Market US Limited Partnership; Dorner Holding Corp.; EQT Mid Market US Limited Partnership.
20170800 | G | KPKV Holdings, Inc.; OIP Pexco AIV, L.P.; KPKV Holdings, Inc.
20170806 | G | Elementis plc; One Rock Capital Partners, LP; Elementis plc.
03/06/2017
20170773 | G | Anadarko Petroleum Corporation; Ranch Westex JV LLC; Anadarko Petroleum Corporation.
20170774 | G | Anadarko Petroleum Corporation; The Williams Companies, Inc.; Anadarko Petroleum Corporation.
20170775 | G | The Williams Companies, Inc.; Anadarko Petroleum Corporation; The Williams Companies, Inc.
20170776 | G | The Wendy's Company; Joseph D. Karam; The Wendy's Company.
20170780 | G | Markel Corporation; John T. Knox, Jr.; Markel Corporation.
20170785 | G | Robert W. Duggan; Human Longevity, Inc.; Robert W. Duggan.
20170790 | G | White Deer Energy L.P.; White Deer Energy L.P. II; White Deer Energy L.P.
20170791 | G | White Deer Energy L.P. II; White Deer Energy L.P.; White Deer Energy L.P. II.
03/07/2017
20170731 | G | Busch GbR; Pfeiffer Vacuum Technology AG; Busch GbR.
20170804 | G | Restaurant Brands International Inc.; Popeyes Louisiana Kitchen, Inc.; Restaurant Brands International Inc.
20170807 | G | Comfort Systems USA, Inc.; Daryl W. Blume; Comfort Systems USA, Inc.
20170814 | G | M5 Midstream LLC; Azure Midstream Partners, LP; M5 Midstream LLC
20170820 | G | BP p.l.c.; Clean Energy Fuels Corp.; BP p.l.c
03/08/2017
20170696 | G | WestRock Company; Multi Packaging Solutions International Limited; WestRock Company.
20170805 | G | Dr. Patrick Soon-Shiong; tronc, Inc.; Dr. Patrick Soon-Shiong.
20170810 | G | KKR European Fund IV L.P.; TUI AG; KKR European Fund IV L.P.
03/09/2017
20170781 | G | Madison Dearborn Capital Partners VII-A, L.P.; BlueCat Networks (USA) Inc.; Madison Dearborn Capital Partners VII-A, L.P.
03/10/2017
20170725 | G | The Veritas Capital Fund V, L.P.; Harris Corporation; The Veritas Capital Fund V, L.P.
20170735 | G | Saint Francis Health Systems, Inc.; AP VIII DSB Holdings, L.P.; Saint Francis Health Systems, Inc.
20170812 | G | Savage Companies; Russ A. Settoon; Savage Companies.
20170813 | G | Savage Companies; Plains All American Pipeline, L.P.; Savage Companies.
20170828 | G | Gray Television, Inc.; Diversified Holding Co.; Gray Television, Inc.
20170832 | G | GTCR Fund XI/B LP; AstraZeneca PLC; GTCR Fund XI/B LP.
03/13/2017
20170802 | G | William J. Dorminy, Jr.; Robert A. Jeffreys; William J. Dorminy, Jr.
20170815 | G | Johnson & Johnson; Torax Medical, Inc.; Johnson & Johnson.
20170836 | G | Roger S. Penske; Werner Schumacher & Berta Schumacher; Roger S. Penske.
20170837 | G | Discovery Global Focus Partners, LP; Peabody Energy Corporation; Discovery Global Focus Partners, LP.
20170838 | G | Discovery Global Opportunity Partners, LP; Peabody Energy Corporation; Discovery Global Opportunity Partners, LP.
20170839 | G | Discovery Global Opportunity Fund, Ltd.; Peabody Energy Corporation; Discovery Global Opportunity Fund, Ltd.
20170840 | G | Elliott International Limited; Peabody Energy Corporation; Elliott International Limited.
20170841 | G | Elliott Associates, L.P.; Peabody Energy Corporation; Elliott Associates, L.P.
20170844 | G | Blackstone Capital Partners VII NQ L.P.; Aon plc; Blackstone Capital Partners VII NQ L.P.
20170845 | G | Baptist Memorial Health Care Corporation; Mississippi Baptist Health Systems, Inc.; Baptist Memorial Health Care Corporation.
20170847 | G | Hi-Crush Partners LP; Hi-Crush Proppants LLC; Hi-Crush Partners LP.
20170848 | G | Pattern Energy Group Inc.; Riverstone/Carlyle Renewable and Alternative Energy Fund II; Pattern Energy Group Inc.
20170849 | G | Vestar Capital Partners VI, L.P.; Steven R. Don; Vestar Capital Partners VI, L.P.
20170850 | G | Vestar Capital Partners VI, L.P.; Robert E. Don; Vestar Capital Partners VI, L.P.
20170852 | G | Bonduelle SCA; Bayside Opportunity Fund, L.P.; Bonduelle SCA.
20170853 | G | Bridgestone Corporation; Gaco Holdings, Inc.; Bridgestone Corporation.
20170855 | G | Windjammer Senior Equity Fund IV, L.P.; Vital Records Holdings, LLC; Windjammer Senior Equity Fund IV, L.P.
20170859 | G | The Veritas Capital Fund V, L.P.; Chicago Bridge & Iron Company NV.; The Veritas Capital Fund V, L.P.
03/14/2017
20170788 | G | Henry Schein, Inc.; Beecken Petty O'Keefe Fund III, L.P.; Henry Schein, Inc.
03/15/2017
20170784 | G | Corning Incorporated; Raymond M. Karam and Susanne Karam; Corning Incorporated.
20170801 | G | Softbank Group Corp.; Social Finance, Inc.; Softbank Group Corp.
20170858 | G | Mike Ashley; Subortis Retail Financing, LLC; Mike Ashley.
03/16/2017
20170748 | G | Planet Labs Inc.; Alphabet Inc.; Planet Labs Inc.
20170749 | G | Alphabet Inc.; Planet Labs Inc.; Alphabet Inc.
20170762 | G | Letterone Investment Holdings S.A.; Great Hill Equity Partners IV, LP; Letterone Investment Holdings S.A.
20170822 | G | Trian Star Trust; The Procter & Gamble Company; Trian Star Trust.
20170825 | G | Trian SPV XII, L.P.; The Procter & Gamble Company; Trian SPV XII, L.P.
20170827 | G | Trian Partners, L.P.; The Procter & Gamble Company; Trian Partners, L.P.
20170829 | G | Trian Partners Strategic Co-Investment Fund-A, L.P.; The Procter & Gamble Company; Trian Partners Strategic Co-Investment Fund-A, L.P.
20170830 | G | Trian Partners Co-Investment Opportunities Fund, LLC; The Procter & Gamble Company; Trian Partners Co-Investment Opportunities Fund, LLC.
20170831 | G | Trian Partners Strategic Investment Fund-A, L.P.; The Procter & Gamble Company; Trian Partners Strategic Investment Fund-A, L.P.
20170860 | G | SteelRiver Infrastructure Fund North America LP; Delta Natural Gas Company, Inc.; SteelRiver Infrastructure Fund North America LP.
03/17/2017
20170871 | G | Estate of Horst Sartorius; SFW Capital Partners Fund, L.P.; Estate of Horst Sartorius.
03/20/2017
20170786 | G | Trident VI, L.P.; Stonegate Mortgage Corporation; Trident VI, L.P.
20170835 | G | Arca Continental, S.A.B. de C.V.; AC Bebidas, S. de R.L. de C.V.; Arca Continental, S.A.B. de C.V.
20170861 | G | Clearlake Capital Partners IV, L.P.; Frontier Fund III, L.P.; Clearlake Capital Partners IV, L.P.
20170864 | G | Rockwater Energy Solutions, Inc.; White Deer Energy L.P.; Rockwater Energy Solutions, Inc.
20170867 | G | Gryphon Partners IV, L.P.; RFE Investment Partners VIII, L.P.; Gryphon Partners IV, L.P.
20170872 | G | Igor Samartsev; IPG Photonics Corporation; Igor Samartsev.
20170880 | G | Recon Wenyuan Cable Co., Ltd.; A&T Media, Inc.; Recon Wenyuan Cable Co., Ltd.
20170882 | G | Dakota Holdings, LLC; Mezzanine Management Fund IV A, L.P.; Dakota Holdings, LLC.
20170883 | G | Quebec L.P.; Telefonica , S.A.; Quebec L.P.
20170884 | G | Dolphin Investment, L.P.; Keenan & Associates; Dolphin Investment, L.P.
03/21/2017
20170809 | G | Elliott Associates, L.P.; Oracle Corporation; Elliott Associates, L.P.
03/22/2017
20170789 | G | Baylor Scott & White Holdings; Tenet Healthcare Corporation; Baylor Scott & White Holdings.
20170854 | G | B. Riley Financial, Inc.; FBR & Co.; B. Riley Financial, Inc.
20170890 | G | Coca-Cola Bottling Company United, Inc.; The Coca-Cola Company; Coca-Cola Bottling Company United, Inc.
03/23/2017
20170605 | G | A.P. Moller-Maersk A/S; Dr. August Oetker AG; A.P. Moller-Maersk A/S.
03/24/2017
20170818 | G | Noble Energy, Inc.; Advantage Pipeline, L.L.C.; Noble Energy, Inc.
20170819 | G | Plains All American Pipeline, L.P.; Advantage Pipeline, L.L.C.; Plains All American Pipeline, L.P.
20170821 | G | Reckitt Benckiser Group plc; Mead Johnson Nutrition Company; Reckitt Benckiser Group plc.
20170892 | G | The Goldman Sachs Group, Inc.; MDC Partners Inc.; The Goldman Sachs Group, Inc.
20170899 | G | Enterprise Products Partners L. P.; Azure Midstream Partners, LP; Enterprise Products Partners L.P.
20170902 | G | Greenbriar Equity Fund III, L.P.; Linsalata Capital Partners Fund V, L.P.; Greenbriar Equity Fund III, L.P.
20170904 | G | Hastings Equity Fund III, L.P.; Speciality Welding and Turnarounds, LLC; Hastings Equity Fund III, L.P.
20170905 | G | Brentwood Associates Private Equity V, L.P.; BC-Jefferson, GP; Brentwood Associates Private Equity V, L.P.
20170908 | G | Temasek Holdings (Private) Limited; Turn, Inc.; Temasek Holdings (Private) Limited.
20170909 | G | The KeyW Holding Corporation; Ares Corporate Opportunities Fund III, L.P.; The KeyW Holding Corporation.
20170910 | G | J&F Investimentos S.A.; Leverandoerselskabet Danish Crown AmbA; J&F Investimentos S.A.
20170912 | G | Babcock & Brown Limited; Marquis Wisconsin Holdings, LLC; Babcock & Brown Limited.
20170920 | G | Extreme Networks, Inc.; Avaya Inc.; Extreme Networks, Inc.
20170921 | G | Genpact Limited; Rage Frameworks, Inc.; Genpact Limited.
03/27/2017
20170862 | G | Gilead Sciences, Inc.; Sarepta Therapeutics Inc.; Gilead Sciences, Inc.
20170927 | G | Ferdinand Porsche Familien-Privatstiftung; Silvercar, Inc.; Ferdinand Porsche Familien-Privatstiftung.
20170928 | G | Graham Holdings Company; Nicolas Berggruen; Graham Holdings Company.
20170929 | G | ASP AMC Holdngs, Inc.; Air Methods Corporation; ASP AMC Holdngs, Inc.
20170930 | G | Harbour Group Investments VI, L.P.; Pfingsten Partners Fund IV, L.P.; Harbour Group Investments VI, L.P.
03/28/2017
20170873 | G | Cypress Investor Holdings, L.P.; Jaguar Holdings Inc.; Cypress Investor Holdings, L.P.
20170903 | G | Giovanni Ferrero; 1-800-FLOWERS.COM, Inc.; Giovanni Ferrero.
20170919 | G | Audax Private Equity Fund V-A, L.P.; Fastener Distribution Holdings, LLC; Audax Private Equity Fund V-A, L.P.
03/29/2017
20170879 | G | CA, Inc.; Veracode, Inc.; CA, Inc.
03/30/2017
20170846 | G | PayPal Holdings, Inc.; TIO Networks Corp.; PayPal Holdings, Inc.
20170875 | G | Insight MB Holdings, LLC; AKKR Trilogy Investments, LLC; Insight MB Holdings, LLC.
20170887 | G | Euromoney Institutional Investor PLC; Electra Private Equity PLC; Euromoney Institutional Investor PLC.
20170901 | G | AP VIII Eagle LM5 Holdings, L.P.; AMCP Security AIV, LP; AP VIII Eagle LM5 Holdings, L.P.
20170915 | G | TPO Venture Partners, LLC; Quadrangle (AIV) Capital Partners II LP; TPO Venture Partners, LLC .
20170916 | G | Kelso Investment Associates VIII, L.P.; Samuel R. Shapiro; Kelso Investment Associates VIII, L.P.
03/31/2017
20170193 | G | Smiths Group plc; Safran S.A.; Smiths Group plc.
20170868 | G | Tech Mahindra Limited; The CJS Solutions Group, LLC; Tech Mahindra Limited.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-07541 Filed 4-13-17; 8:45 am]

BILLING CODE 6750-01-P